DEPARTMENT OF TRANSPORTATION

Federal Aviation Administration

14 CFR Part 71

[Airspace Docket No. FAA-02-ANM-07]

Establishment of Class E Airspace at Afton Municipal Airport, Afton, WY

AGENCY: Federal Aviation Administration (FAA), DOT.

ACTION: Final rule; correction.

SUMMARY: This action deletes reference to the magnetic headings in the airspace description of the Class E airspace at Afton Municipal Airport, Afton, WY, that was published on July 31, 2003 (68 FR 44874), Airspace Docket 02-ANM-07.

EFFECTIVE DATE: 0901 UTC, October 30, 2003.

FOR FURTHER INFORMATION CONTACT: Ed Haeseker, ANM-520.7; telephone (425) 227-2527; Federal Aviation Administration, Docket No. 02-ANM-07, 1601 Lind Avenue SW., Renton, Washington 98055-4056.

SUPPLEMENTARY INFORMATION: History: Airspace Docket 02-ANM-07 published on July 31, 2003 (68 FR 44874), established Class E Airspace at Afton Municipal Airport, Afton, WY, effective date of October 30, 2003. Magnetic as well as true heading were used to describe parameters of the Class E Airspace for Afton Municipal Airport, Afton, WY. This action only deletes references to the magnetic headings.

E Airspace; Airways; Routes; and Reporting Points [Amended]

Authority: 49 U.S.C. 106(g); 40103, 40113, 40120; E.O. 10854, 24 FR 9565.

Correction to Final Rule

§ 71.1 [Amended]

The references to magnetic headings in the description of the Class E Airspace for Afton Municipal Airport, Afton, WY. Accordingly, pursuant to the authority delegated to me, as published in the Federal Register on July 31, 2003 (68 FR 44874) (Airspace Docket 02-ANM-07); page 44874, column 2, are corrected as follows:

* * * * *

ANM UT E5 Afton, WY (Corrected)

Afton Municipal Airport, WY

(Lat 42°42′41″ N, long. 110°56′32″ W)

That airspace extending upward from 700 feet above the surface of the earth within 6.5 mile radius of the Afton Municipal Airport, and within 2 miles either side of the 355° bearing from the airport extending from the 6.5 miles radius to 7.5 miles north of the airport, and within 2 miles either side of the 185° bearing from the airport extending from the 6.5 mile radius to 19.3 miles south of the airport.

* * * * *

Issued in Seattle, Washington, on September 22, 2003.
ViAnne Fowler,
Acting Manager, Air Traffic Division, Northwest Mountain Region.

[FR Doc. 03-25427 Filed 10-7-03; 8:45 am]

BILLING CODE 4910-13-M